LEGAL SERVICES CORPORATION

Sunshine Act Meeting

Date and Time: The Legal Services Corporation's Board of Directors and its six committees will meet October 18-20, 2018. On Thursday, October 18, the first meeting will commence at 1:00 p.m., Eastern Daylight Time (EDT), with the meeting thereafter commencing promptly upon adjournment of the immediately preceding meeting. On Friday, October 19, the first meeting will commence at 3:30 p.m., EDT, with the next meeting commencing promptly upon adjournment of the immediately preceding meeting. On Saturday, October 20, the first meeting will commence at 8:30 a.m., EDT and will be followed by the closed session meeting of the Board of Directors that will commence promptly upon adjournment of the prior meeting.

Location: The Omni Severin Hotel, 40 W Jackson Place, Indianapolis, IN 46225.

Public Observation: Unless otherwise noted herein, the Board and all committee meetings will be open to public observation. Members of the public who are unable to attend in person but wish to listen to the public proceedings may do so by following the telephone call-in directions provided below.

Call-In Directions for Open Sessions:

• Call toll-free number: 1-866-451-4981;

• When prompted, enter the following numeric pass code: 5907707348

• Once connected to the call, your telephone line will be automatically “MUTED”.

• To participate in the meeting during public comment press #6 to “UNMUTE” your telephone line, once you have concluded your comments please press *6 to “MUTE” your line.

Members of the public are asked to keep their telephones muted to eliminate background noises. To avoid disrupting the meeting, please refrain from placing the call on hold if doing so will trigger recorded music or other sound. From time to time, the presiding Chair may solicit comments from the public.

Meeting Schedule
| Time *
Thursday, October 18, 2018
1. Operations & Regulations Committee | 1:00 p.m.
2. Governance and Performance Review Committee
3. Institutional Advancement Committee
4. Communications Subcommittee of the Institutional Advancement Committee
5. Delivery of Legal Services Committee
Friday, October 19, 2018
1. Finance Committee | 3:30 p.m.
2. Audit Committee
Saturday, October 20, 2018
1. Board of Directors | 8:30 a.m.
* Please note that all times in this notice are in Eastern Daylight Time.

Status of Meeting: Open, except as noted below.

Board of Directors—Open, except that, upon a vote of the Board of Directors, a portion of the meeting may be closed to the public to hear briefings by management and LSC's Inspector General, and to consider and act on the General Counsel's report on potential and pending litigation involving LSC, and on a list of prospective Leaders Council invitees. **

Institutional Advancement Committee—Open, except that, upon a vote of the Board of Directors, the meeting may be closed to the public to consider and act on recommendation of new Leaders Council invitees and to receive a briefing on future projects for support with private funding.**

Audit Committee—Open, except that the meeting may be closed to the public to hear a briefing on the Office of Compliance and Enforcement's active enforcement matters.**

Finance Committee—Open, except that the meeting may be closed to the public to hear a briefing from management.**

** Any portion of the closed session consisting solely of briefings does not fall within the Sunshine Act's definition of the term “meeting” and, therefore, the requirements of the Sunshine Act do not apply to such portion of the closed session. 5 U.S.C. 552(b) (a)(2) and (b). See also 45 C.F.R. 1622.2 & 1622.3.

A verbatim written transcript will be made of the closed session of the Board, Institutional Advancement Committee, Audit Committee, and Finance Committee meetings. The transcript of any portions of the closed sessions falling within the relevant provisions of the Government in the Sunshine Act, 5 U.S.C. 552b(c)(6) and (10), will not be available for public inspection. A copy of the General Counsel's Certification that, in his opinion, the closing is authorized by law will be available upon request.

MATTERS TO BE CONSIDERED:

October 18, 2018

Operations & Regulations Committee

Open Session

1. Approval of agenda

2. Approval of minutes of the Committee's Open Session meeting of July 25, 2018

3. Update on Conducting a Grantee Survey Regarding the 2014 Revisions to 45 CFR part 1614—Private Attorney Involvement

• Stefanie Davis, Assistant General Counsel

4. Update on Proposed Rulemaking to Revise 45 CFR part 1607—Governing Bodies

• Ron Flagg, General Counsel and Vice President for Legal Affairs

• Stefanie Davis, Assistant General Counsel

5. Briefing on the Draft Proposal for Public Engagement in Rulemaking from the Administrative Conference of the United States

• Ron Flagg, General Counsel and Vice President for Legal Affairs

• Stefanie Davis, Assistant General Counsel

6. Public comment

7. Consider and act on other business

8. Consider and act on adjournment of meeting

October 18, 2018

Governance and Performance Review Committee

Open Session

1. Approval of agenda

2. Approval of minutes of the Committee's Open Session meeting on July 25, 2018

3. Report on foundation grants and LSC's research agenda

• Jim Sandman, President

4. Report on 2018 Board and Committee Evaluations

• Carol Bergman, Vice President for Government Relations & Public Affairs

5. Report on transition Planning

• Carol Bergman, Vice President for Government Relations & Public Affairs

• Ron Flagg, Vice President for Legal Affairs, General Counsel and Corporate Secretary

6. Consider and act on other business

7. Public comment

8. Consider and act on adjournment of meeting

October 18, 2018

Institutional Advancement Committee

Open Session

1. Approval of agenda

2. Approval of minutes of the Committee's Open Session meeting of July 25, 2018

3. Update on Leaders Council

• John G. Levi, Chairman of the Board

4. Consider and act on Resolution #2018-XXX, Establishing an Emerging Leaders Council

5. Development report

• Nadia Elguindy, Director of Institutional Advancement

6. Public Comment

7. Consider and act on other business

8. Consider and act on motion to adjourn the open session meeting and proceed to a closed session

Closed Session

9. Approval of minutes of the Committee's Closed Session meeting of July 25, 2018

10. Development activities report

• Jim Sandman, President

• Nadia Elguindy, Director of Institutional Advancement

11. Consider and act on future projects for support with private funding

• Jim Sandman, President

12. Consider and act on motion to approve Leaders Councils invitees

13. Consider and act on other business

14. Consider and act on motion to adjourn the meeting

October 18, 2018

Communications Subcommittee of the Institutional Advancement Committee

Open Session

1. Approval of agenda

2. Approval of minutes of the Subcommittee's Open Session meeting of July 25, 2018

3. Communications analytics update

• Carl Rauscher, Director of Communications and Media Relations

4. Public comment

5. Consider and act on other business

6. Consider and act on motion to adjourn the meeting

October 18, 2018

Delivery of Legal Services Committee

Open Session

1. Approval of agenda

2. Approval of minutes of the Committee's Open Session meeting on July 26, 2018

3. Update on revisions to LSC Performance Criteria

• Lynn Jennings, Vice President for Grants Management

4. Panel presentation on effective uses of data

• Craige Harrison, Chief Information Officer, Utah Legal Services

• Joanne Labrusciano, Director of Grant Initiatives and Reporting, Legal Services of the Hudson Valley

• Greg Landry, Executive Director, Acadiana Legal Services

• Kristin Verrill, Director of Grants and Innovation, Atlanta Legal Aid Society

• Moderator: Lynn Jennings, Vice President for Grants Management

5. Public comment

6. Consider and act on other business

7. Consider and act on motion to adjourn the meeting

October 19, 2018

Finance Committee

Open Session

1. Approval of agenda

2. Approval of minutes of the Committee's Open Session telephonic meeting on July 12, 2018

3. Approval of minutes of the Committee's Open Session meeting of July 26, 2018

4. Presentation of LSC's Financial Reports for the eleven-month period ending August 31, 2018

• Jim Sandman, President

5. Report on status of FY 2018 appropriations process

• Carol Bergman, Vice President for Government Relations & Public Affairs

6. Consider and act on Resolution #2018-XXX, Temporary Operating Budget for FY 2019

• Jim Sandman, President

7. Report on status of FY 2020 appropriations request

• Carol Bergman, Director of Government Relations & Public Affairs

8. Public comment

9. Consider and act on other business

10. Consider and act on motion to adjourn the open session meeting to proceed to a closed session

Closed Session

11. Report from management

• Jim Sandman, President

12. Consider and act on adjournment of meeting

October 19, 2018

Audit Committee

Open Session

1. Approval of agenda

2. Approval of minutes of the Committee's Open Session meeting on July 25, 2018

3. Briefing of Office of Inspector General

• Jeffrey Schanz, Inspector General

• Roxanne Caruso, Assistant Inspector General for Audit

4. Pursuant to Section VIII (A)(3) and VIII (A)(4) of the Committee Charter, review and discuss with the OIG its audit responsibilities and performance, its audit plan for the Corporation and the risk assessment that drives its audit plan, the effectiveness of its audit plan and activities, and all significant matters relative to audits performed by the OIG, including any problems the OIG encountered while performing their audits

• Jeffrey Schanz, Inspector General

• Roxanne Caruso, Assistant Inspector General for Audit

5. Pursuant to Section VIII (A) (1) of the Committee Charter, review and discuss with the Office of Inspector General Management, and Castro and Company the contemplated scope and plan for LSC's required annual audit

• Roxanne Caruso, Assistant Inspector General for Audit

• Jim Sandman, President

6. Pursuant to Section VIII (C)(6) of the Committee Charter, review LSC's efforts, including training and education to help ensure that LSC employees and grantees act ethically and safeguard LSC funds

• Ron Flagg, Vice President for Legal Affairs

• Lynn Jennings, Vice President for Grant Management

• Jeffrey Schanz, Inspector General

7. Management update regarding risk management

• Ron Flagg, General Counsel and Vice President for Legal Affairs

8. Briefing about follow-up by the Office of Compliance and Enforcement on referrals by the Office of Inspector General regarding audit reports and annual Independent Public audits of grantees

• Lora Rath, Director of Compliance and Enforcement

• Roxanne Caruso, Assistant Inspector General for Audit

9. Public comment

10. Consider and act on other business

11. Consider and act on motion to adjourn the open session meeting and proceed to a closed session

Closed Session

12. Approval of minutes of the Committee's Closed Session meeting of July 25, 2018

13. Briefing by the Office of Compliance and Enforcement on active enforcement matter(s) and follow-up to open investigation referrals from the Office of Inspector General

• Lora Rath, Director of Compliance and Enforcement

14. Report on cybersecurity test results

• Jim Sandman, President

15. Consider and act on adjournment of meeting

October 20, 2018

Board of Directors

Open Session

1. Pledge of Allegiance

2. Approval of agenda

3. Approval of minutes of the Board's Open Session meeting of July 26, 2018

4. Chairman's Report

5. Members' Reports

6. President's Report

7. Inspector General's Report

8. Consider and act on the report of the Operations and Regulations Committee

9. Consider and act on the report of the Governance and Performance Review Committee

10. Consider and act on the report of the Institutional Advancement Committee

11. Consider and act on the report of the Delivery of Legal Services Committee

12. Consider and act on the report of the Finance Committee

13. Consider and act on the report of the Audit Committee

14. Public comment

15. Consider and act on other business

16. Consider and act on whether to authorize a closed session of the Board to address items listed below

Closed Session

1. Approval of minutes of the Board's Closed Session meeting of July 26, 2018

2. Management briefing

3. Inspector General briefing

4. Consider and act on list of prospective Leaders Council invitees

5. Consider and act on General Counsel's report on potential and pending litigation involving LSC

6. Consider and act on motion to adjourn the meeting

CONTACT PERSON FOR INFORMATION: Katherine Ward, Executive Assistant to the Vice President & General Counsel, at (202) 295-1500. Questions may be sent by electronic mail to FR_NOTICE_QUESTIONS@lsc.gov.

Non-Confidential Meeting Materials: Non-confidential meeting materials will be made available in electronic format at least 24 hours in advance of the meeting on the LSC website, at http://www.lsc.gov/board-directors/meetings/board-meeting-notices/non-confidential-materials-be-considered-open-session.

Accessibility: LSC complies with the American's with Disabilities Act and Section 504 of the 1973 Rehabilitation Act. Upon request, meeting notices and materials will be made available in alternative formats to accommodate individuals with disabilities. Individuals who need other accommodations due to disability in order to attend the meeting in person or telephonically should contact Katherine Ward, at (202) 295-1500 or FR_NOTICE_QUESTIONS@lsc.gov, at least 2 business days in advance of the meeting. If a request is made without advance notice, LSC will make every effort to accommodate the request but cannot guarantee that all requests can be fulfilled.

Dated: October 5, 2018.
Katherine Ward,
Executive Assistant to the Vice President for Legal Affairs, General Counsel & Corporate Secretary.

[FR Doc. 2018-22190 Filed 10-5-18; 4:15 pm]

BILLING CODE 7050-01-P